DEPARTMENT OF THE INTERIOR

National Park Service

[NPS-WASO-NRNHL-DTS#-38485; PPWOCRADI0, PCU00RP14.R50000]

National Register of Historic Places; Notification of Pending Nominations and Related Actions

AGENCY: National Park Service, Interior.

ACTION: Notice.

SUMMARY: The National Park Service is soliciting electronic comments on the significance of properties nominated before July 27, 2024, for listing or related actions in the National Register of Historic Places.

DATES: Comments should be submitted electronically by August 22, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 27, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

DISTRICT OF COLUMBIA

District of Columbia

Old Korean Legation, 1500 13th Street NW (15 Logan Circle NW), Washington, SG100010773

ILLINOIS

Cook County

Royalton Hotel (Residential Hotels in Chicago, 1910-1930), 1810 W Jackson Boulevard, Chicago, MP100010782

Werner Brothers Storage Warehouse No. 6, 7613 N Paulina Street, Chicago, SG100010783

Macon County

Garfield School, 1077 W Grand Avenue, Decatur, SG100010784

KENTUCKY

Fayette County

Lexington Hospitality Motor Inn, 2143 North Broadway Street, Lexington, SG100010762

Franklin County

Green Hill Cemetery, Intersection of East Main Street (U.S. 60) and Atwood Avenue, Frankfort, SG100010763

Jefferson County

Chickasaw Neighborhood Historic District, Bounded by Broadway, Louis Coleman Jr. Drive, Ohio River, the southern boundary of Chickasaw Park and the Paducah and Louisville Railroad, Louisville, SG100010764

The KFC White House Building, 1441 Gardiner Lane, Louisville, SG100010765

Lynnview Historic District, Roughly bounded by Preston Hwy. on the west, Gilmore Ln. on the south, Breitenstein Ave. on the east, and Evergreen Cemetery to the north, Lynnview, SG100010766

Southern Heights-Beechmont District (Boundary Increase), (South Louisville MRA), Roughly bounded by W Southern Heights to the north, S 3rd St. to the east, Southern Parkway, Brookline Ave., Belleview Ave., and Bluegrass Ave. to the south, and on the south, and Cliff Ave. on the west, Louisville, BC100010767

Lee County

Beattyville Historic District, Main Street, Hwy. 11, Locust St., Center St., River Drive, Lumber Street, Madison Street, Railroad Street, Elm Street, Walnut Street, Bradford Street, Beattyville, SG100010769

Pike County

Pikeville Commercial Historic District (Boundary Increase), (Pikeville MRA), Roughly bounded by Hambley Boulevard, South Auxier Avenue, Main Street, and Huffman Avenue, Pikeville, BC100010771

MICHIGAN

Presque Isle County

Rogers Theater, 257 North 3rd Street, Rogers City, SG100010780

MISSISSIPPI

Union County

New Albany Historic District, Roughly bounded to the north by properties fronting the north side of Mississippi Street; to the east 1 by properties fronting the east side of North and Garfield Streets; to the south by Standish Street and properties fronting the south side of Ford Street, New Albany, SG100010772

OHIO

Cuyahoga County

E.F. Hauserman Co. Administration, Engineering & Research Building, 5711 Grant Avenue, Cuyahoga Heights, SG100010756

OKLAHOMA

Blaine County

Dusbabek Filling Station, 101 N Main Street, Okeene, SG100010776

Garfield County

Booker T. Washington School, 801 Pastor Alfred Baldwin Jr. Way, Enid, SG100010777

Covington Jail (Calabooses (Tiny Jails) in Oklahoma 1904-1940 MPS), 514 W Main St., Covington, MP100010778

Tillman County

Tipton Orphans Home, 1000 North Broadway Avenue, Tipton, SG100010779

PENNSYLVANIA

Delaware County

Pennock E. Sharpless House, 684 Concord Road, Glen Mills, SG100010758

Susquehanna County

Silver Lake Schoolhouse #1 (Educational Resources of Pennsylvania MPS), 1340 Wilkes Barre Turnpike, Montrose, MP100010759

TEXAS

Comal County

Faust-Frueholz House and Medical Building, 305 South Seguin Avenue, New Braunfels, SG100010760

Ellis County

West Marvin Avenue-Patrick Street Historic District, Roughly bounded by North Spencer Street to the west, the rear property lines of the resources fronting the north side of West Marvin Avenue to the north, Ferris Avenue to the east, and Water Street and West Parks Avenue to the south, Waxahachie, SG100010757

WISCONSIN

Winnebago County

Baumann Block, 1124-1128 Oregon Street, Oshkosh, SG100010774

An owner objection received for the following resource(s):

KENTUCKY

Hart County

Horse Cave Residential Historic District, Roughly bounded by Maple Ave., Guthrie St., Walthall St., Cemetery St., Hart Ave., College St., E Kathleen Ave., Horse Cave, SG100010781

Additional documentation has been received for the following resource(s):

KENTUCKY

Jefferson County

Southern Heights-Beechmont District (Additional Documentation), (South Louisville MRA), Roughly bounded by Southern Pkwy., 6th St., Ashland, and Southern Heights Aves., Louisville, AD83002736

Pike County

Pikeville Commercial Historic District (Additional Documentation), (Pikeville MRA), Main St. and Division Ave., Pikeville, AD84001916

NEBRASKA

Douglas County

Benson Commercial Historic District (Additional Documentation), (Streetcar-Era Commercial Development in Omaha, Nebraska MPS), Centered along Maple St. between North 59th and North 63rd Sts., Omaha, AD100005766

Authority: Section 60.13 of 36 CFR part 60.

Sherry A. Frear,
Chief, National Register of Historic Places/National Historic Landmarks Program.

[FR Doc. 2024-17434 Filed 8-6-24; 8:45 am]

BILLING CODE 4312-52-P